DEPARTMENT OF HEALTH AND HUMAN SERVICES

Agency for Healthcare Research and Quality

Inpatient Severe Maternal Morbidity Measure Technical Specifications

AGENCY: Agency for Healthcare Research and Quality, U.S. Department of Health and Human Services.

ACTION: Notice of Request for Information.

SUMMARY: The Agency for Healthcare Research and Quality (AHRQ) Center for Quality Improvement and Patient Safety (CQuIPS) Division of Quality Measurement and Improvement (QMI) invites public comment in response to this Request for Information (RFI). The AHRQ Quality Indicators (QI) program maintains inpatient quality indicators (https://qualityindicators.ahrq.gov/measures/IQI_TechSpecTechSpec) and patient safety indicators (https://qualityindicators.ahrq.gov/measures/PSI_TechSpec), several of which are relevant to maternal health care. Specifically, the QI program maintains measures of obstetric trauma, birth trauma, and cesarean delivery calculated at the hospital level using administrative data. However, severe maternal morbidity during an inpatient stay may result from a host of complications, such as sepsis, cardiac failure, stroke, respiratory distress, and renal failure. While state-level rates of severe maternal morbidity are available from AHRQ (https://datatools.ahrq.gov/hcup-fast-stats/?tab=special-emphasis&dash=92), experts have noted some shortcomings of this measure. This RFI seeks comments on the usability, feasibility, and likely uptake of a measure of severe maternal morbidity to be validated, refined, and maintained by the QI program, with the goal of providing data for maternal health service improvements. While a measure of severe maternal morbidity is currently available from AHRQ and the Health Resources and Service Administration (HRSA), several experts have suggested that this algorithm could benefit from refinements.

DATES: Comments on this notice must be received at the address provided below within 30 days of publication of this notice, no later than March 4, 2024.

ADDRESSES: Interested parties may submit comments electronically to askahrq@ahrq.hhs.gov. When submitting comments or requesting information, please include the document identifier number and project title “Inpatient Severe Maternal Morbidity Measure Technical Specifications” for reference.

FOR FURTHER INFORMATION CONTACT: Questions may be addressed to Judy George, Program Lead for the AHRQ Quality Indicators, Judy.george@ahrq.hhs.gov.

SUPPLEMENTARY INFORMATION: Maternal health, including maternal behavioral health, is a national priority in the United States. Strengthening data collection and evaluation is part of the first goal of the White House Blueprint for Addressing the Maternal Health Crisis (https://www.whitehouse.gov/wp-content/uploads/2022/06/Maternal-Health-Blueprint.pdf), which is to increase access to and coverage of comprehensive high-quality maternal health services, including behavioral health services. Unexpected complications and outcomes around labor and delivery may lead to short- or long-term consequences to women's health (https://pubmed.ncbi.nlm.nih.gov/27560600/), which have been defined as severe maternal morbidity (https://www.cdc.gov/reproductivehealth/maternalinfanthealth/severematernalmorbidity.htmlhtml). National and state rates of severe maternal morbidity are currently available on AHRQ's Healthcare Cost and Utilization Project (HCUP) Fast Stats dashboard (https://datatools.ahrq.gov/hcup-fast-stats/?tab=special-emphasis&dash=92). However, there are measurement concerns for some of indicators included in this measure (eclampsia, disseminated intravascular coagulation, and blood transfusions) and additional validation and refinement may be warranted.

In collaboration with federal partners from the Department of Health and Human Services, AHRQ is exploring potential refinements to this measure of severe maternal morbidity for use at an area level (e.g., county, state) using administrative data. AHRQ aims to assess the validity and reliability of potential refinements to this severe maternal morbidity measure. In addition, AHRQ is considering incorporating a measure of severe maternal morbidity into its measure portfolio, including the production of technical specifications and the dissemination of software to calculate this measure through the AHRQ QI program.

Many users of quality measures, such as state and local governments, largely rely on administrative data that lack the robust clinical information found in electronic health records (EHRs). For example, Centers for Medicaid and Medicare Services (CMS) has developed Electronic Clinical Quality Measures (ECQMs) for severe obstetric complications which relies upon EHR data. AHRQ aims to provide measurement resources that are broadly accessible across organizations, including for those lacking access to extensive clinical data.

To support measurement resources that are broadly accessible across organizations, AHRQ requests public comment on the usability, feasibility, and likely uptake of an inpatient severe maternal morbidity measure, produced through the QI program using administrative data, with the intent of promoting maternal health service improvements at an area level (e.g., county, state). AHRQ invites stakeholders representing consumers, state/regional/local health departments, accountable care organizations, community health centers, birthing centers, providers/health systems, critical access/rural hospitals, professional associations, payers, rural and community health groups, community health workers, doulas, maternal health advocacy groups, researchers, and other members of the public to comment.

Specific questions of interest include, but are not limited to:

1. If you are currently measuring severe maternal morbidity in your organization, what measure(s) are you or your organization using? How do you use these measures? What data sources are you using? Please specify organization type in your answer.

2. If you or your organization are not currently measuring severe maternal morbidity, what quantitative data would you need to make maternal health service improvements? Please specify organization type in your answer.

3. At what level—state, county, or some other level—would information be most helpful for improving maternal health services? In what ways?

4. The measure currently used by AHRQ for severe maternal morbidity uses 21 indicators (https://www.cdc.gov/reproductivehealth/maternalinfanthealth/smm/severe-morbidity-ICD.htm) identified with ICD-10CM10CM/PCS codes in administrative data. Considering these indicators,

a. What codes might be missing? Are there changes you would you recommend?

b. In what ways would the changes that you propose make a severe maternal morbidity measure more useful to your organization?

c. Would a measure with the refinements you propose be useful for surveillance? Population health management? Clinical quality improvement? Program evaluation? Research? Public reporting or accountability programs? In what ways?

5. What other measures of maternal health and/or morbidity would your organization find useful/effective for improving maternal health services, including any potential measures for use in either the prenatal or postpartum time periods?

AHRQ is interested in all of the questions listed above, but respondents are welcome to address as many or as few as they choose and to address additional areas of interest not listed. It is helpful to identify the question to which a particular answer corresponds.

This RFI is for planning purposes only and should not be construed as a policy, solicitation for applications, or as an obligation on the part of the Government to provide support for any ideas in response to it. AHRQ will use the information submitted in response toto this RFI at its discretion and will not provide comments to any respondent's submission. However, responses to this RFI may be reflected in future solicitation(s) or policies. The information provided will be analyzed and may appear in reports.

Dated: January 29, 2024.
Marquita Cullom,
Associate Director.

[FR Doc. 2024-02021 Filed 1-31-24; 8:45 am]

BILLING CODE P